Title 3—

The President

Proclamation 7969 of December 16, 2005

Wright Brothers Day, 2005

By the President of the United States of America

A Proclamation

On December 17, 1903, a wooden aircraft lifted from the sands of Kitty Hawk, North Carolina, remaining airborne for 12 seconds and covering a distance of 40 yards. That first powered flight was a heroic moment in our Nation's history and in the story of mankind. On Wright Brothers Day, we celebrate the journey that began at Kitty Hawk and commemorate the imagination, ingenuity, and determination of Orville and Wilbur Wright.

The American experience in air and space is an epic of endurance and discovery. The past 102 years have brought supersonic flight, space travel, and the exploration of the Moon and Mars. Charles Lindbergh's solo, nonstop passage across the Atlantic Ocean and the record-breaking flights of Amelia Earhart captured the public's imagination and encouraged the growth of aviation. Americans such as Chuck Yeager, the first man to break the sound barrier, and Alan Shepard, the first American in space, and Neil Armstrong and Buzz Aldrin, the first men on the Moon, led our Nation on a voyage of discovery. These pioneers explored the unknown and brought the bold dream of the Wright Brothers into the future. Their dedication and skill and that of countless others reflect the finest values of our country and have helped ensure that the United States continues to lead the world in flight.

Americans will always be risk-takers for the sake of exploration. As we remember the achievements of the Wright Brothers, we look forward to challenging the frontiers of knowledge in a new century.

The Congress, by a joint resolution approved December 17, 1963 (77 Stat. 402; 36 U.S.C. 143) as amended, has designated December 17 of each year as “Wright Brothers Day” and has authorized and requested the President to issue annually a proclamation inviting the people of the United States to observe that day with appropriate ceremonies and activities.

NOW, THEREFORE, I, GEORGE W. BUSH, President of the United States of America, do hereby proclaim December 17, 2005, as Wright Brothers Day.

IN WITNESS WHEREOF, I have hereunto set my hand this sixteenth day of December, in the year of our Lord two thousand five, and of the Independence of the United States of America the two hundred and thirtieth.

B

[FR Doc. 05-24384

Filed 12-20-05; 8:45 am]

Billing code 3195-01-P